DEPARTMENT OF ENERGY

Federal Energy Regulatory Commission

[Docket No. CP02-60-000]

CMS Trunkline LNG Company, LLC; Notice of Site Visit

May 3, 2002.

On May 14, 2002, at 9:00 a.m., staff from the Office of Energy Projects (OEP) will conduct a pre-certification site visit of the proposed Trunkline LNG Expansion Project at CMS Trunkline LNG Company, LLC's (Trunkline LNG) existing liquefied natural gas import terminal in Calcasieu Parish, Louisiana. Representatives of Trunkline LNG will accompany the OEP staff. The purpose of the site visit is to review the existing and proposed cryogenic design and spill containment features of the LNG terminal.

All interested parties may attend the site visit. Those planning to attend must provide their own transportation. Additionally, for security reasons, anyone planning to attend must contact Trunkline LNG's, Gwen Hughes at (337) 475-4217. For further information on attending the site visit, please contact the Commission's Office of External Affairs at (202) 208-0004.

Magalie R. Salas,
Secretary.

[FR Doc. 02-11584 Filed 5-8-02; 8:45 am]

BILLING CODE 6717-01-P